DEPARTMENT OF LABOR

Employment and Training Administration

[TA-W-57,053]

Armstrong Wood Products, Flooring Division, Nashville, TN; Notice of Termination of Investigation

Pursuant to section 221 of the Trade Act of 1974, as amended, an investigation was initiated on April 26, 2005 in response to a petition filed by the AFL-CIO on behalf of workers at Armstrong Wood Products, Flooring Division, Nashville, Tennessee.

The petitioners have requested that the petition be withdrawn. Consequently, the investigation has been terminated.

Signed at Washington, DC, this 23rd day of May 2005.
Elliott S. Kushner,
Certifying Officer, Division of Trade Adjustment Assistance.

[FR Doc. E5-2951 Filed 6-8-05; 8:45 am]

BILLING CODE 4510-30-P